DEPARTMENT OF COMMERCE

Economic Development Administration

Request for Information on Implementation of the Distressed Area Recompete Pilot Program

AGENCY: Economic Development Administration, U.S. Department of Commerce.

ACTION: Request for information.

SUMMARY: The Department of Commerce, through the Economic Development Administration (EDA), is seeking information to inform the planning and design of the Distressed Area Recompete Pilot (Recompete Pilot) Program. Responses to this Request for Information (RFI) will inform planning for the implementation of the Recompete Pilot Program.

DATES: Comments must be received by 5 p.m. Eastern Time on March 27, 2023. Submissions received after that date may not be considered. Written comments in response to this RFI should be submitted in accordance with the instructions in the Addresses and Supplementary Information sections below.

ADDRESSES: Interested persons are invited to submit written comments by mail to recompete@eda.gov. Do not submit confidential business information or otherwise sensitive or protected information.

FOR FURTHER INFORMATION CONTACT: Mara Quintero Campbell, Senior Advisor, via email: MCampbell@eda.gov or via telephone: (202) 482-9055. Please reference “Recompete RFI” in the subject line of your correspondence.

SUPPLEMENTARY INFORMATION:

Background

Section 10621 of the Research and Development, Competition, and Innovation Act directs the Department of Commerce to establish a pilot program to award strategy development grants and strategy implementation grants to eligible recipients representing eligible local labor markets, tribes, or local communities to “alleviate persistent economic distress and support long-term comprehensive economic development and job creation in eligible areas.” (15 U.S.C. 3722b; Pub. L. 117-167, Division B, Title VI, Subtitle C, Sec. 10621(a)(2), 136 Stat. 1642). Of the $1 billion authorized for the Recompete Pilot Program from fiscal year 2022 through 2026, $200 million has been made available for the program as of the publication of this RFI.

The Recompete Pilot Program will invest in distressed communities across the country to create, and connect workers to, good jobs and support long-term comprehensive economic development. The Recompete Pilot Program specifically targets areas with lower than the U.S. average labor participation by prime-age (25 to 54 years of age) workers (i.e., high prime-age employment gap) and strives to make targeted interventions to spark economic activity in such areas.

The program focuses on eligible geographic areas—Tribal lands, local labor markets, and local communities ¹—that are experiencing low labor force participation. Part of the goal of this RFI is to identify the different interventions and approaches capable of making a discernible impact on prime-age employment and related indicators of economic distress, such as low household or per capita income.

¹ Eligible geographic areas are defined at 15 U.S.C. 3722b(j)(1), (3), (4), and (8).

EDA intends to run a rigorous, fair, and evidence-driven competition informed by the experiences of all stakeholders, economic development practitioners, and relevant policy research to guide program design, structure, and evaluation, and to ensure program impacts are distributed inclusively and equitably. This RFI is meant to encourage the field of workforce and economic development to provide evidence-based guidance that will be used to plan the implementation of the $200 million Recompete Pilot Program.

Specific Request for Information: Recompete Characteristics

1. For those who live or work in areas with high prime-age employment gaps, what barriers should be addressed to increase job placement/retention and/or job creation? What unique challenges and opportunities do you see in your community?

2. How might EDA determine how large of an investment is necessary to meaningfully advance the economy of a local labor market or community with a high prime-age employment gap? What data and information are important to that determination?

a. If implementation awards were limited to the statutory minimum of $20 million, what types of initial investments would most significantly increase employment rates?

3. What scale and types of economic development interventions would be most likely to advance the economy of a locality or region with a high prime-age employment gap? For example, should the program emphasize industry sectors or be sector agnostic?

a. Are there limitations due to what's currently allowable with EDA funding?

b. Given that each eligible community will bring its own unique set of challenges and opportunities, how should EDA evaluate whether any such investments, interventions, and/or policies would be most effective in an eligible community?

c. What features of existing block grant programs should EDA adopt or avoid to increase the likelihood of alleviating persistent economic distress and increasing employment? What about these features makes them effective or ineffective?

4. What economic development assets are most predictive of long-term success from a Recompete intervention?

5. What economic development assets does a local labor market and/or community need to have to take advantage of the Recompete Pilot Program?

6. What are best practices for building local public capacity that would prepare local labor markets and/or communities for Recompete implementation and other future funding?

7. What are the most significant distinctions in the interventions needed in smaller versus larger geographic areas, or local communities versus local labor markets as defined by the statute?

8. Please provide research and evidence of interventions that work in highly distressed labor markets and/or communities to create good jobs and/or connect un- or underemployed residents to good jobs.

Specific Request for Information: Recompete Pilot Program Design

9. Are there measures in addition to prime-age employment gap (for local labor markets) and prime-age employment gap and median household income (for local communities) recommended to reach areas that are either (a) most persistently distressed, or (b) most likely to show sustained economic development progress after intervention?

10. How can federal grants and cooperative agreements be structured to ensure the impacts of the Recompete Pilot Program are shared broadly and equitably?

11. The statute permits implementation investments only in areas with an approved Recompete Plan. What elements should Recompete Plans include, and against what criteria should EDA evaluate them?

12. How should EDA evaluate Tribal prime-age population given that data from the Department of the Treasury's Coronavirus State and Local Fiscal Recovery Fund programs under title VI of the Social Security Act (42 U.S.C. 802 et seq.) are unlikely to be available?

13. What should EDA consider in designing the program for its current funding level of $200 million given the $1 billion vision in the program's statutory authorization? How should those considerations affect EDA's design of the program now and potentially into future years?

14. What else should EDA consider when building this program?

Specific Request for Information: Recompete Pilot Program Administration

15. What types of administrative or technical assistance will help the recipients of Recompete funding to be more successful during implementation?

16. How should EDA measure the success of the Recompete Pilot Program?

a. What would be the indications of a successful implementation investment under the Recompete Pilot Program?

17. How can the Recompete Pilot Program best complement and leverage other Federal, State, and local economic development investments (e.g., HUD's Community Development Block Grant program, American Rescue Plan Act, Bipartisan Infrastructure Law, Inflation Reduction Act, CHIPS and Science Act, etc.) so that persistent economic distress is alleviated successfully?

18. What is a realistic time period (e.g., 5, 10, 15 years, other?) over which to evaluate the economic development impacts of the Recompete Pilot Program and why?

Date: February 17, 2023.
Susan Brehm,
Regional Director, Economic Development Administration Chicago Regional Office.

[FR Doc. 2023-03732 Filed 2-22-23; 8:45 am]

BILLING CODE 3510-24-P